DEPARTMENT OF COMMERCE

National Oceanic and Atmospheric Administration

[I.D. 072902B]

Proposed Information Collection; Comment Request; Reporting of Sea Turtle Incidental Take in Virginia Chesapeake Bay Pound Net Operations

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before September 30, 2002.

ADDRESSES: Direct all written comments to Madeleine Clayton, Departmental Paperwork Clearance Officer, Department of Commerce, Room 6608, 14th and Constitution Avenue, NW, Washington, DC 20230 (or via Internet at MClayton@doc.gov).

FOR FURTHER INFORMATION CONTACT: Requests for additional information or copies of the information collection instrument(s) and instructions should be directed to Mary Colligan, Assistant Regional Administrator for Protected Resources, National Marine Fisheries Service (NMFS), One Blackburn Drive, Gloucester, MA 01930 (ph. 978-281-9116, fax 978-281-9394).

SUPPLEMENTARY INFORMATION:

I. Abstract

This proposed reporting measure would require all Virginia Chesapeake Bay pound net fishermen to report interactions with endangered and threatened sea turtles, found both live and dead, in their pound net operations. When a live or dead sea turtle is discovered during a pound net trip, the Virginia pound net fisherman would be required to report the incidental take to NMFS and, if necessary, the appropriate rehabilitation and stranding network. This information will be used to monitor the level of incidental take in the state-managed Virginia pound net fishery and ensure that the seasonal pound net leader restriction (50 CFR 223.206(d)(2)(v)) is adequately protecting listed sea turtles.

II. Method of Collection

At any time during the year, if a sea turtle is taken live and uninjured in any portion of the pound net operation, in the pound, heart, or leader, the operator of the vessel would be required to report the incident to the NMFS Northeast Regional Office within 24 hours of returning from the trip in which the incidental take was discovered. At any time during the year, if a sea turtle is taken in a pound net operation, and is determined to be injured, or if a sea turtle is captured dead, the operator of the vessel would be required to immediately notify the NMFS Northeast Regional Office and the appropriate rehabilitation or stranding network, as determined by the NMFS Northeast Regional Office.

III. Data

OMB Number: None.

Form Number: None.

Type of Review: Regular submission.

Affected Public: Business or other for-profit organizations, individuals or households (specifically, Virginia pound net fishermen).

Estimated Number of Respondents: 80.

Estimated Time Per Response: 10 minutes.

Estimated Total Annual Burden Hours: 74.

Estimated Total Annual Cost to Public: $1,323.

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: July 25, 2002.
Madeleine Clayton,
Departmental Paperwork Clearance Officer, Office of Chief Information Officer.

[FR Doc. 02-19427 Filed 7-31-02; 8:45 am]

BILLING CODE 3510-22-S